DEPARTMENT OF COMMERCE

Foreign-Trade Zones Board

[Order No. 1676]

Designation of New Grantee

Foreign-Trade Zone 243, Victorville, California

Resolution and Order

Pursuant to its authority under the Foreign-Trade Zones Act of June 18, 1934, as amended (19 U.S.C. 81a-81u), the Foreign-Trade Zones Board (the Board) adopts the following Order:

The Foreign-Trade Zones (FTZ) Board (the Board) has considered the application (filed 03/17/2010) submitted by the Southern California Logistics Airport Authority, grantee of FTZ 243, requesting reissuance of the grant of authority for said zone to the City of Victorville, which has accepted such reissuance subject to approval by the FTZ Board. Upon review, the Board finds that the requirements of the FTZ Act and the Board's regulations are satisfied, and that the proposal is in the public interest.

Therefore, the Board approves the application and recognizes the City of Victorville as the new grantee of Foreign-Trade Zone 243, subject to the FTZ Act and the Board's regulations, including Section 400.28. The Secretary of Commerce, as Chairman of the Board, is hereby authorized to issue an appropriate Board Order.

Signed at Washington, DC, this 20th day of April 2010.

Ronald K. Lorentzen,
Deputy Assistant Secretary for Import Administration Alternate ChairmanForeign-Trade Zones Board.
ATTEST:
Andrew McGilvray,
Executive Secretary.

[FR Doc. 2010-10621 Filed 5-4-10; 8:45 am]

BILLING CODE 3510-DS-S